DEPARTMENT OF ENERGY

Federal Energy Regulatory Commission

[Project No. 15230-002]

Pike Island Hydropower Corporation; Notice of Reasonable Period of Time for Water Quality Certification Application

On November 24, 2025, Pike Island Hydropower Corporation (Pike Island Corporation) submitted to the Federal Energy Regulatory Commission (Commission) documentation from the Ohio Environmental Protection Agency (Ohio EPA) that it received a request for a Clean Water Act section 401(a)(1) water quality certification as defined in 40 CFR 121.5, from Pike Island Corporation, in conjunction with the above captioned project on November 24, 2025. Pursuant to the Commission's regulations,¹ we hereby notify Ohio EPA of the following dates.

¹ 18 CFR 4.34(b)(5)(iii).

Date of Receipt of the Certification Request: November 24, 2025.

Reasonable Period of Time to Act on the Certification Request: One year, November 24, 2026.

If Ohio EPA fails or refuses to act on the water quality certification request on or before the above date, then the certifying authority is deemed waived pursuant to section 401(a)(1) of the Clean Water Act, 33 U.S.C. 1341(a)(1).

(Authority: 18 CFR 2.1)

Dated: November 25, 2025.
Debbie-Anne A. Reese,
Secretary.

[FR Doc. 2025-21705 Filed 11-28-25; 8:45 am]

BILLING CODE 6717-01-P